DEPARTMENT OF HOMELAND SECURITY

Coast Guard

33 CFR Part 165

[Docket No. USCG-2024-0398]

Southern California Annual Firework Events for the Los Angeles Long Beach Captain of the Port Zone

AGENCY: Coast Guard, DHS.

ACTION: Notification of enforcement of regulation.

SUMMARY: The Coast Guard will enforce safety zones for annually reoccurring firework events taking place the first week of July 2024 in the Los Angeles-Long Beach Captain of the Port Zone. This action is necessary and intended to provide for the safety of life and property on the navigable waterways during these events. During enforcement periods, the operator of any vessel in the regulated area must comply with direction from the Patrol Commander or any official patrol vessels displaying a Coast Guard ensign.

DATES: The regulations in 33 CFR 165.1125 will be enforced for the location identified in Table 1 of § 165.1125 on the following dates and times for each event.

#2 LA County Dept of Beach and Harbors 4th of July Fireworks

• Location: Main Ship Channel of Marian Del Ray, Ca

• Date: July 4th, 2024

• Time: Safety Zone enforced from 1930 to 2300 local.

#3 Fourth of July Fireworks, City of Dana Point

• Location: Offshore Dana Point Harbor, CA

• Date: July 4th, 2024

• Time: Safety Zone enforced from 2030 to 2300 local.

#4 Fourth of July Fireworks, City of Long Beach

• Location: Los Alamitos Bay, CA

• Date: July 3rd, 2024

• Time: Safety Zone enforced from 2030 to 2230 local.

#5 Fourth of July Fireworks, Irvine Cove Community Association

• Location: Offshore Irvine Cove, Laguna Beach, CA

• Date: July 4th, 2024

• Time: Safety Zone enforced from 2030 to 2200 local.

#6 Fourth of July Fireworks, Emerald Bay Community Association

• Location: Offshore Emerald Bay, Laguna Beach, CA

• Date: July 4th, 2024

• ;Time: Safety zone enforced from 2100 to 2230 local.

#8 Fourth of July Fireworks, Catalina Island CoC

• Location: Avalon Bay, CA

• Date: July 4th, 2024

• Time: Safety Zone will be enforced from 2030 2230 local.

#9 Fourth of July Fireworks, Santa Barbara

• Location: Harbor Entrance of Santa Barbara, CA

• Date: July 4th, 2024.

• Time: Safety Zone will be enforced from 2030 to 2200 local.

#11 Fourth of July Fireworks, City of Redondo Beach

• Location: Offshore Redondo Beach, CA

• Date: July 4th, 2024

• Time: Safety Zone will be enforced from 2030 to 2230 local.

#13 Fourth of July Fireworks, City of Cayucos

• Location: City of Cayucos Pier, CA

• Date: July 4th, 2024

• Time: Safety Zone will be enforced from 2030 to 2230 local.

FOR FURTHER INFORMATION CONTACT: If you have questions about this notification of enforcement, contact LCDR Kevin Kinsella, U.S. Coast Guard Sector Los Angeles—Long Beach at telephone (310) 467-2099 or email D11-SMB-SectorLALB-WWM@uscg.mil.

SUPPLEMENTARY INFORMATION: The Coast Guard will enforce the safety zones in 33 CFR 165.1125, for the above listed events under Table 1 of § 165.1125, for the 2024 4th of July Firework Displays. Our regulation for marine events within the Eleventh Coast Guard District, § 165.1125, specifies the location of the 1,000-foot safety zones for the 4th of July Firework displays. During the enforcement periods, as reflected in Table 1 of § 165.1125 if you are the operator of a vessel in the regulated area you must comply with directions from the Patrol Commander or any Official Patrol displaying a Coast Guard ensign.

In addition to this notification of enforcement in the Federal Register, the Coast Guard plans to provide notification of this enforcement period via marine information broadcasts and a Marine Safety Information Bulletin.

If the Captain of the Port Los Angeles—Long Beach determines that the safety zone need not to be enforced for the full duration stated in this notice, the Captain of the Port may use a Broadcast Notice to Mariners to reflect the change.

S.L. Crecy,
Captain, U.S. Coast Guard, Captain of the Port Los Angeles—Long Beach.

[FR Doc. 2024-12436 Filed 6-5-24; 8:45 am]

BILLING CODE 9110-04-P